DEPARTMENT OF THE TREASURY

Agency Information Collection Activities; Submission for OMB Review; Comment Request; Multiple Fiscal Service Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before July 27, 2018 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8142, Washington, DC 20220, or email at PRA@treasury.gov.

FOR FURTHER INFORMATION CONTACT: Copies of the submissions may be obtained from Jennifer Quintana by emailing PRA@treasury.gov, calling (202) 622-0489, or viewing the entire information collection request at www.reginfo.gov.

SUPPLEMENTARY INFORMATION:

Bureau of the Fiscal Service (FS)

Title: Schedule of Excess Risks.

OMB Control Number: 1530-0062.

Type of Review: Extension without change of a currently approved collection.

Abstract: Listing of Excess Risks written or assumed by Treasury Certified Companies for compliance with Treasury Regulations to assist in determination of solvency of Certified companies for the benefit of writing Federal surety bonds.

Form: FS Form 285-A.

Affected Public: Businesses or other for-profits.

Estimated Total Annual Burden Hours: 5,800.

Title: Implementing Regulations: Government Securities Act of 1986, as amended.

OMB Control Number: 1530-0064.

Type of Review: Revision of a currently approved collection.

Abstract: The regulations require government securities broker and dealers to make and keep certain records concerning their business activities and their holdings of government securities, to submit financial reports, and to make certain disclosures to investors. The regulations also require depository institutions to keep certain records of non-fiduciary custodial holdings of government securities. The regulations and associated collections are fundamental to customer protection and dealer financial responsibility.

Form: G-FIN-4, G-FIN-5, G-405.

Affected Public: Businesses or other for-profits.

Estimated Total Annual Burden Hours: 224,592.

Title: Subscription for Purchase and Issue of U.S. Treasury Securities—State and Local Government Series.

OMB Control Number: 1530-0065.

Type of Review: Revision of a currently approved collection.

Abstract: The information is necessary to establish and maintain the accounts for owners of securities of State and Local Government Series.

Form: FS Form 4144 series, 5237, 5238 & 5377.

Affected Public: State and Local Governments.

Estimated Total Annual Burden Hours: 2,578.

Authority: 44 U.S.C. 3501 et seq.

Dated: June 21, 2018.
Spencer W. Clark,
Treasury PRA Clearance Officer.

[FR Doc. 2018-13779 Filed 6-26-18; 8:45 am]

BILLING CODE 4810-AS-P